DEPARTMENT OF COMMERCE

National Oceanic and Atmospheric Administration

Notice of Request for Public Comment on the Draft National Coral Reef Resilience Strategy

AGENCY: The Coral Reef Conservation Program, Office for Coastal Management, National Ocean Service, National Oceanic and Atmospheric Administration (NOAA), Department of Commerce.

ACTION: Request for written comments.

SUMMARY: NOAA announces the request for written public comments on the draft National Coral Reef Resilience Strategy (National Strategy) in accordance with the Coral Reef Conservation Act of 2000 (CRCA), as reauthorized and amended by the James M. Inhofe National Defense Authorization Act for Fiscal Year 2023. NOAA administers the Coral Reef Conservation Program (CRCP), which is implemented in the coastal areas and marine waters of Florida, Puerto Rico, the U.S. Virgin Islands, Gulf of Mexico, Hawaii, Guam, the Commonwealth of the Northern Mariana Islands, American Samoa, the U.S. Pacific Remote Island Area, and targeted international regions, including the wider Caribbean, the Coral Triangle, the South Pacific, and Micronesia. The reauthorized CRCA directs NOAA to develop the National Strategy within two years of enactment. The National Strategy will replace the existing CRCP Strategic Plan (2018). The intended effect of this notice is to initiate a period of public review and comment on the National Strategy.

DATES: NOAA will consider all relevant written comments by November 25, 2024.

ADDRESSES: Copies of the draft National Strategy may be found on www.regulations.gov (search for NOAA-NOS-2024-0121). Comments may be submitted by the following methods:

• Federal eRulemaking Portal: Go to http://www.regulations.gov/NOAA-NOS-2024-0121 Click the “Comment Now!” icon, complete the required fields, and enter or attach your comments.

• Email: Please direct written comments via email to uscrtf.crca@noaa.gov. In the subject heading of your email, please include “Written comments draft National Coral Reef Resilience Strategy”.

Instructions: All comments received are a part of the public record and generally will be posted for public viewing on www.regulations.gov without change. All personally identifiable information (name, address, etc.), confidential business information, or otherwise sensitive information submitted voluntarily by the commenter will be publicly accessible. NOAA will accept anonymous comments (enter “N/A” in the required fields you wish to remain anonymous). Multimedia submissions (audio, video, etc.) must be accompanied by a written comment. The written comment is considered the official comment and should include discussion of all points you wish to make. NOAA will generally not consider comments or comment contents located outside of the primary submission (i.e., on the web, cloud, or other file sharing system). Comments that are not responsive or contain profanity, vulgarity, threats, or other inappropriate language will not be considered.

FOR FURTHER INFORMATION CONTACT: Caroline Donovan, NOAA Coral Reef Conservation Program, by email at caroline.donovan@noaa.gov or phone at (240) 410-3416.

SUPPLEMENTARY INFORMATION:

Background

NOAA announces the request for written public comments on the draft National Coral Reef Resilience Strategy (National Strategy) in accordance with the Coral Reef Conservation Act of 2000 (CRCA), as reauthorized and amended by the James M. Inhofe National Defense Authorization Act for Fiscal Year 2023 (Pub. L. 117-263, December 23, 2022, 136 Stat 2395). NOAA administers the Coral Reef Conservation Program (CRCP), which is implemented in the coastal areas and marine waters of Florida, Puerto Rico, the U.S. Virgin Islands, Gulf of Mexico, Hawaii, Guam, the Commonwealth of the Northern Mariana Islands, American Samoa, the U.S. Pacific Remote Island Area, and targeted international regions, including the wider Caribbean, the Coral Triangle, the South Pacific, and Micronesia. The reauthorized CRCA directs NOAA to develop the National Coral Reef Resilience Strategy (National Strategy) within two years of enactment. The National Strategy will replace the existing CRCP Strategic Plan (2018).

The draft National Strategy articulates the vision, purpose, and goals that will drive the work of the U.S. coral reef conservation community now and into the future. Strategies, objectives, and actions that will help achieve these goals are described in detail. To support development of the National Strategy, NOAA's Coral Reef Conservation Program consulted with the Secretary of the Interior, the Secretary of Defense, covered States, and covered Native entities through the United States Coral Reef Task Force and its working groups and other stakeholders; and the CRCP solicited public review and comment on scoping and the draft strategy. The National Strategy is based upon sound science, innovative management approaches, effective enforcement, meaningful partnerships, and inclusive public participation. The National Strategy uses an adaptive management framework and incorporates a resilience-based management approach into five conservation goals. If adequately resourced, the conservation outcomes supported by this plan will result in healthy, resilient coral reef ecosystems in the United States that will provide a variety of valuable services to current and future generations.

Pursuant to section 204(b) of the reauthorized CRCA, the required elements of the National Strategy are:

• A discussion addressing:

○ continuing and emerging threats to the resilience of U.S. coral reef ecosystems;

○ remaining gaps in coral reef ecosystem research, monitoring, and assessment;

○ the status of management cooperation and integration among Federal reef managers and covered reef managers;

○ the status of efforts to manage and disseminate critical information and enhance interjurisdictional data sharing related to research, reports, datasets, and maps;

○ areas of special focus, which may include:

▪ improving natural coral recruitment,

▪ preventing avoidable losses of corals and their habitat,

▪ enhancing the resilience of coral populations,

▪ supporting a resilience-based management approach,

▪ developing, coordinating, and implementing watershed management plans,

▪ building and sustaining watershed management capacity at the local level,

▪ providing data essential for coral reef fisheries management,

▪ building capacity for coral reef fisheries management,

▪ increasing understanding of coral reef ecosystem services,

▪ educating the public on the importance of coral reefs, threats, and solutions, and

▪ evaluating intervention efficiency;

○ the status of conservation efforts, including the use of marine protected areas to serve as replenishment zones developed consistent with local practices and traditions and in cooperation with, and with respect for the scientific, technical, and management expertise and responsibilities of, covered reef managers;

○ science-based adaptive management and restoration efforts; and

○ management of coral reef emergencies and disasters.

• A statement of national goals and objectives designed to guide:

○ future Federal coral reef management and restoration activities authorized under Section 203 of the reauthorized CRCA;

○ conservation and restoration priorities for grants awarded under section 211 of the reauthorized CRCA; and

○ research priorities for the reef research coordination institutes designated under section 213(b)(1)(B).

• A designation of priority areas for conservation and priority areas for restoration to support the review and approval of grants under Section 211(e) of the reauthorized CRCA.

• Technical assistance in the form of general templates for use by covered reef managers and Federal reef managers to guide the development of coral reef action plans under Section 205 of the reauthorized CRCA, including guidance on the best science-based practices to respond to coral reef emergencies that can be included in coral reef action plans.

Public Comment

The official public comment period lasts until November 25, 2024. Please visit the CRCP web page for additional information on the program: https://coralreef.noaa.gov/.

Authority: Coral Reef Conservation Act of 2000.

Nicole R. LeBoeuf,
Assistant Administrator for Ocean Services and Coastal Zone Management, National Ocean Service, National Oceanic and Atmospheric Administration.

[FR Doc. 2024-23560 Filed 10-10-24; 8:45 am]

BILLING CODE 3510-08-P